DEPARTMENT OF TRANSPORTATION

National Highway Traffic Safety Administration

[Docket No. NHTSA-2023-015]

Agency Information Collection Activities; Submission to the Office of Management and Budget for Review and Approval; Automated Vehicle Transparency and Engagement for Safe Testing (AV TEST) Initiative

AGENCY: National Highway Traffic Safety Administration (NHTSA), Department of Transportation (DOT).

ACTION: Notice and request for comments on a request for approval for extension with modification of a currently approved information collection.

SUMMARY: In compliance with the Paperwork Reduction Act of 1995 (PRA), this notice announces that the Information Collection Request (ICR) abstracted below will be submitted to the Office of Management and Budget (OMB) for review and approval. The ICR describes the nature of the information collection and its expected burden. The information collection described in this document is for NHTSA's Automated Vehicle Transparency and Engagement for Safe Testing (AV TEST) Initiative, which involves the collection of voluntarily-submitted information from entities involved in the testing of vehicles equipped with automated driving systems (ADS) and from States and local authorities involved in the regulation of ADS testing. The purpose of this collection is to provide information to the public about ADS testing operations in the United States and applicable State and local laws, regulations, and guidelines. A Federal Register Notice with a 60-day comment period soliciting comments on the information collection was published on April 6, 2023 (83 FR 20608). NHTSA received 3 comment submission and a brief summary and NHTSA's response to those comments is provided in this document.

DATES: Comments must be submitted on or before July 31, 2023.

ADDRESSES: Written comments and recommendations for the proposed information collection, including suggestions for reducing burden, should be submitted to the Office of Management and Budget at www.reginfo.gov/public/do/PRAMain. To find this particular information collection, select “Currently under Review—Open for Public Comment” or use the search function.

FOR FURTHER INFORMATION CONTACT: For additional information or access to background documents, contact Chris Wiacek, Office of Data Acquisition, (NSA-100), Room W53-478, 1200 New Jersey Avenue SE, Washington, DC 20590. Mr. Wiacek's telephone number is (202) 366-4801. Please identify the relevant collection of information by referring to its OMB Control Number.

SUPPLEMENTARY INFORMATION: Under the PRA (44 U.S.C. 3501 et seq.), a Federal agency must receive approval from the Office of Management and Budget (OMB) before it collects certain information from the public and a person is not required to respond to a collection of information by a Federal agency unless the collection displays a valid OMB control number. In compliance with these requirements, this notice announces that the following information collection request will be submitted OMB.

A Federal Register notice with a 60-day comment period soliciting public comments on the following information collection was published on April 6, 2023.

Title: Automated Vehicle Transparency and Engagement for Safe Testing (AV TEST) Initiative.

OMB Control Number: 2127-0748.

Form Number: NHTSA Form 1586—AV TEST Tracker eForm; NHTSA Form 1587—AV TEST Onboarding Form.

Type of Request: Request for approval for extension with modification of a currently approved information collection.

Type of Review Requested: Regular.

Length of Approval Requested: Three years from the date of approval.

Summary of the Collection of Information: The U.S. Department of Transportation (DOT), National Highway Traffic Safety Administration (NHTSA) was established by Congress to save lives, prevent injuries, and reduce economic costs due to motor vehicle crashes through education, research, safety standards, and enforcement activity. DOT and NHTSA are fully committed to reaching an era of crash-free roadways through the deployment of innovative lifesaving technologies. The prevalence of automotive crashes in the United States underscores the urgency to develop and deploy lifesaving technologies that can dramatically decrease the number of fatalities and injuries on our Nation's roadways.

NHTSA believes that Automated Driving System (ADS) technology, including technology contemplating no human driver at all, has the potential to significantly improve roadway safety in the United States. This technology remains substantially in development phases with companies across the United States performing varying levels of development, research, and testing relating to the performance of various aspects of ADS vehicle technologies. While much of these development operations occur in private facilities and closed-course test tracks, many stakeholders have progressed to conducting ADS vehicle testing on public roads or in public demonstrations. Moreover, to regulate such operations in their jurisdictions, many local authorities, such as States and cities, have passed laws governing ADS vehicle testing on public roads. These statutes, regulations, and ordinances vary, ranging from operational requirements to mandating the submission of periodic reports detailing ADS vehicle operation.

Description of the Need for the Information and Proposed Use of the Information: The AV TEST Initiative seeks to enhance public education and engagement with public ADS vehicle testing by coalescing information regarding respondents' various testing operations or requirements into a centralized resource. This information collection seeks voluntarily-provided information from entities performing ADS testing about their operations and information from local authorities about requirements or recommendations for such operations. NHTSA maintains a digital platform on its website ¹ that collects information from respondents and makes the information about ADS operations and applicable State and local requirements and recommendations available to members of the public.

¹ https://www.nhtsa.gov/automated-vehicle-test-tracking-tool.

The program supports two main objectives. The first objective is to provide the public with access to geographic visualizations of testing at the national, State, and local levels. This information is displayed on a graphic of the United States, with projects overlaid on the geographic areas in which the testing project is taking place. By clicking on a testing location, members of the public see additional information about the operation and the ADS operator. Additional information may include basic information about the ADS operator, a brief statement about the entity, specific details of the testing activity, high-level (non-confidential) descriptions of the vehicles and technology, photos of the test vehicles, the dates on which testing occurs, frequency of vehicle operations, the number of vehicles participating in the project, the specific streets or areas comprising the testing routes, information about safety drivers and their training, information about engagement with the community and/or local government, weblinks to the company's websites with brief introductory statements, and a link to the company's Voluntary Safety Self-Assessment (VSSA).²

² Voluntary Self-Assessments are described in Automated Driving Systems 2.0: A Vision for Safety, available at https://www.nhtsa.gov/sites/nhtsa.dot.gov/files/documents/13069a-ads2.0_090617_v9a_tag.pdf. VSSAs are covered by the PRA Clearance with OMB Control Number 2127-0723.

The second objective is to provide members of the public with information collected from States and local authorities that regulate ADS operations. State and local authorities will be asked to provide weblinks for specific ADS-related topics, such as statutes, regulations, or guidelines for ADS operations, privacy-related issues, emergency response policies and training, or other activities that cultivate ADS testing. This program provides a central resource for the aforementioned information concerning ADS testing across the United States.

Affected Public: There are two information collection components to this request. The first affects entities engaged in testing of ADS vehicles, including original manufacturers of ADS vehicles and ADS vehicle equipment, and operators of ADS vehicles. The second affects local authorities regulating testing of ADS vehicles within their jurisdictions, including States, cities, counties, and other municipalities.

Estimated Number of Respondents: NHTSA anticipates that the Initiative could expand to include up to 35 State or local government respondents and 40 ADS developer, ADS vehicle manufacturer, or ADS operator respondents per year.

Frequency: Participation is completely voluntary, and each participant will choose its respective degree of involvement and the frequency of its submissions. Therefore, the frequency of a participant's response may vary due to a variety of factors, such as the degree of the entity's participation in the initiative or the frequency with which each entity modifies its ADS testing operations or, in the case of local authorities, amends its regulations governing such operations.

Number of Responses: Participation is completely voluntary, and each participation will choose the number and frequency of its submissions. Therefore, the number of responses from a participant will vary due to a variety of factors, such as the degree of the entity's participation in the initiative or the frequency with which each entity modifies its ADS testing operations or, in the case of local authorities, amends its regulations governing such operations.

Estimated Total Annual Burden Hours: NHTSA estimates that the annual burden of participation will be approximately 48 hours for private industry respondents that include ADS operators, developers, or vehicle manufacturers. This total number of hours represents approximately four hours per month to perform data entry for testing projects (4 hours × 12 months = 48). Therefore, for the estimated 40 ADS operator participants, the total burden is estimated to be 1,920 hours per year (40 respondents × 48 hours).

NHTSA estimates that each State or local authority respondent would spend approximately 10 hours responding to this collection. Therefore, for the estimated 35 State or local authority participants, the total burden is estimated to be 350 hours per year.

The total burden for the entire information collection request is estimated to be 2,270 hours (1,920 hours + 350 hours). The total burden hours have been reduced from the original estimate of 2,520 when the agency first sought approval for this information collection because of the lower estimated participation. However, the agency believes the annual hours per respondent has not changed.

The labor cost associated with this collection of information is derived by (1) applying the appropriate average hourly labor rate published by the Bureau of Labor Statistics, (2) dividing by either 0.705 ³ (70.5%), for private industry workers, or 0.619 (61.9%), for state and local government workers, to obtain the total cost of compensation, and (3) multiplying by the estimated burden hours for each respondent type.

³ See Table 1. Employer Costs for Employee Compensation by ownership (Sep. 2022), available at https://www.bls.gov/news.release/ecec.t01.htm (accessed March 14, 2023).

Labor costs associated with original manufacturers of ADS Vehicles or ADS vehicle equipment and operators of ADS vehicles are estimated to be $60.48 per hour for “Project Management Specialists,” Occupation Code 13-1082, ($42.64 ⁴ per hour ÷ 0.705). The labor cost per private industry respondent for each year for development and submission of information is estimated to be $2,903.04 ($60.48 × 48 hours). Therefore, the total annual labor cost for private industry to participate in the AV TEST Initiative is estimated to be $116,121.60 ($2,903.04 × 40 respondents).

⁴ See May 2021 National Industry-Specific Occupational Employment and Wage Estimates NAICS 336100—Motor Vehicle Manufacturing, available (accessed March 14, 2023).

Labor costs associated with local and regional authorities, such as states, counties, and cities are estimated to be $66.79 per hour for “Legal Support Workers,” Occupation Code 23-2099, ($41.34 ⁵ per hour ÷ 0.619). The labor cost per regional authority respondent for each year for development and submission of information is estimated to be $667.90 ($66.79 × 10 hours). Therefore, the total annual labor cost for regional authorities to participate in the AV TEST Initiative is estimated to be $23,376.50 ($667.9 × 35 respondents).

⁵ See May 2021 National Occupational Employment and Wage Estimates by ownership Federal, state, and local government, including government-owned schools and hospitals and the U.S. Postal Service, available at https://www.bls.gov/oes/current/999001.htm#23-0000 (accessed March 14, 2023).

The total annual labor costs for all respondents, private industry, and regional authorities together, are estimated to be $139,499 ($116,122 + $23.377). See Table 1 below for a summary of estimated burden hours and estimated labor costs.

Table 1—Summary of Estimated Burden Hours and Estimated Labor Costs
Respondent type | Number of respondents | Annual hours per respondent | Labor cost per hour | Annual labor cost per respondent | Total estimated burden hours | Total annual labor costs
Original Manufacturer of ADS Vehicles or ADS Vehicle Equipment and Operators of ADS Vehicles | 40 | 48 | $60.48 | $2,903.04 | 1,920 | $116,122
State or Local Authority | 35 | 10 | 66.79 | 667.900 | 350 | 23,377
Total All Respondents | 75 |  |  |  | 2,270 | 139,499

NHTSA's estimate for the burden hours for participants remained the same from the April 6, 2023, notice.

Estimated Total Annual Burden Cost: NHTSA estimates that there will be no costs to respondents other than labor costs associated with burden hours.

Summary of Public Comments: On April 6, 2023, NHTSA published a notice in the Federal Register Notice with a 60-day comment period soliciting comments on the information collection (88 FR 20608). NHTSA received a total of 3 comment submission from organizations including, Alliance for Automotive Innovation (Auto Innovators), Owner-Operator Independent Drivers Association (OOIDA) and a joint submission from Safe Kids Worldwide and Safe Kids in Automated Vehicle Alliance (Safe Kids). A summary and response to the comments is provided below.

All commenters supported the Initiative's objective to enhance public education and engagement with public ADS vehicle testing by coalescing information regarding respondents' various testing operations or requirements into a centralized resource including information collected from States and local authorities that regulate ADS operations. Specifically, Auto Innovators commented that providing the public with access to see where testing is occurring at the national, state, and local levels helps provide additional transparency and assurances for how safety, mobility and accessibility issues are being addressed by innovators in the AV space, which is critical for building public acceptance of this burgeoning technology. OOIDA supported the objectives of the AV TEST Initiative by stating, it provides the public with direct and easy access to information about AV testing and development, along with information from states regarding activity, legislation, regulations, and local involvement in automation on our roadways. Safe Kids stated NHTSA's information and data collection under the AV TEST Initiative provides a mechanism to keep the public and safety advocates informed about automated vehicle testing activities to be conducted on public roads throughout the country.

The agency did not receive specific comments on the burden of the data collection, however OOIDA and Auto Innovators provided additional comments on how the agency may enhance the Initiative.

OOIDA stated the voluntary nature of AV TEST has not been effective in producing the necessary safety data to implement informed regulatory policies for autonomous vehicles. The AV TEST Initiative's voluntary structure prevents the program from best accomplishing its goals and NHTSA must require mandatory data transparency from manufacturers because it will help educate consumers, the industry, and regulators about the actual reliability and performance of autonomous technology.

In response, the agency's objective of the AV TEST Initiative is to provide members of the public with a centralized database of high-level information about ADS testing activities and State and local laws, recommendations, and initiatives. It is, therefore, outside of the scope of the project to make any reporting mandatory or to expand the collection to include safety information or information that NHTSA would use to evaluate the safety of ADS operations.

The Auto Innovators provided further comments specific to the AV TEST Initiative and how data is presented to the public. The Auto Innovators stated that it is important that NHTSA conduct periodic reviews to verify the accuracy of information that is made available on the AV TEST initiative portal, and that it is up to date. This may include spot check outreach to select organizations to provide updates on the status of their operations, or other updates to the data where the information is known to no longer be accurate (for example, if an AV tester were to cease operations).

In response, the agency agrees with the Auto Innovators and believes accurate data serves the intent of the Initiative to enhance public education and engagement with public ADS vehicles. However, NHTSA notes that data submitted as part of the AV TEST Initiative may become stale. For example, because the AV TEST Initiative is voluntary, an ADS operator could provide information on an ADS operation and never update NHTSA when the operation is completed. Although we provide a mechanism for participants to change the status of test sites from active to inactive or completed, participants may not update the status of an operation. NHTSA does reach out to program participants about operations that has not been updated for an extended period of time. In addition, we have provided participants the ability to remove out-of-date information and archive the data, which removes it from the AV TEST web page.

Furthermore, because the information submitted by participants is voluntary, before information is transferred to the public website the agency reviews the submissions for any obvious errors or concerns and will contact the participants accordingly prior to approval for publication if any concerns are identified. The agency also does a general periodic review for information that is out-of-data such as removing participants from the public website when we become aware the entity is no longer testing and has ceased operations.

The Auto Innovators also recommended NHTSA consider repurposing or rebranding the AV TEST initiative to emphasize not only the testing of AVs, but also to capture the transition from testing to real-world deployment. This is unlikely to create any additional burden in terms of the information provided as part of the AV TEST initiative but is likely an important distinction to make in building public acceptance and confidence in new technology. This could perhaps be achieved by using different colors and/or patterns to enable users to distinguish between testing and deployment in the online visualization tool.

In response, the agency believes the AV TEST Initiative needs to evolve over time as the technology progresses and the ADS developers transition their operations to have changing interaction with the public beyond testing and demonstration. Currently, the AV TEST Initiative provides participants the options to identify testing operations where the vehicles are providing a service to the public, however, currently specific to testing and not real-world deployment. As recently as May 10th, 2023, the agency held a workshop with participants where we rolled out changes made to the AV TEST website based upon earlier feedback from participants to improve the conveyance of information to the public. We encourage participants and the public to contact the agency on ways to further improve the AV TEST experience.⁶ Prior to committing resources, the agency would like further information on the need and scope of the real-world deployment of ADS vehicles.

⁶ ADSInformationDesk@dot.gov.

Lastly, Auto Innovators suggested, NHTSA should proactively encourage states to share information on statewide AV policies or initiatives as part of the AV TEST program, as this information is not only critical for public transparency, but also an important resource for manufacturers that need to develop systems to account for operational and policy related differences between regions.

In response, the agency has proactively reached out to states and encouraged them to participate in this voluntary program. In discussion with the states, the agency recognizes that each state has their own priorities with respect to ADS vehicles and may have limited resources or interest to participate in AV TEST. The agency continues to encourage state participation, however, as noted earlier this is a voluntary program.

NHTSA appreciates the commenters' input and will keep this input in mind when considering future approaches to ADS technologies.

Public Comments Invited: You are asked to comment on any aspects of this information collection, including (a) whether the proposed collection of information is necessary for the proper performance of the functions of the agency, including whether the information will have practical utility; (b) the accuracy of the agency's estimate of the burden of the proposed collection of information, including the validity of the methodology and assumptions used; (c) ways to enhance the quality, utility and clarity of the information to be collected; and (d) ways to minimize the burden of the collection of information on respondents, including the use of appropriate automated, electronic, mechanical, or other technological collection techniques or other forms of information technology, e.g., permitting electronic submission of responses.

Authority: The Paperwork Reduction Act of 1995; 44 U.S.C. Chapter 35, as amended; 49 CFR 1.49; and DOT Order 1351.29.

Chou-Lin Chou,
Associate Administrator, National Center for Statistics and Analysis.

[FR Doc. 2023-13902 Filed 6-29-23; 8:45 am]

BILLING CODE 4910-59-P